SOCIAL SECURITY ADMINISTRATION

[Docket No. SSA-2009-0012]

Privacy Act of 1974, as Amended; Computer Matching Program (Social Security Administration/Law Enforcement Agencies (SSA/LEA))—Match Number 5001

AGENCY: Social Security Administration.

ACTION: Notice of renewal of an existing computer matching program, scheduled to expire on October 9, 2009.

SUMMARY: In accordance with the Privacy Act, as amended, this notice announces renewal of an existing computer matching program that we are currently conducting with LEA.

DATES: We will file a report of the subject matching program with the Committee on Homeland Security and Governmental Affairs of the Senate, the Committee on Oversight and Government Reform of the House of Representatives, and the Office of Information and Regulatory Affairs, Office of Management and Budget (OMB). Renewal of the matching program will be effective as indicated below.

ADDRESSES: Interested parties may comment on this notice by either telefaxing to (410) 965-0201 or writing to the Deputy Commissioner for Budget, Finance and Management, 800 Altmeyer Building, 6401 Security Boulevard, Baltimore, MD 21235-6401. All comments received will be available for public inspection at this address.

FOR FURTHER INFORMATION CONTACT: The Deputy Commissioner for Budget, Finance and Management as shown above.

SUPPLEMENTARY INFORMATION:

A. General

The Computer Matching and Privacy Protection Act of 1988 (Public Law (Pub. L.) 100-503), amended the Privacy Act (5 U.S.C. 552a) by describing the conditions under which computer matching involving federal agencies could be performed and adding certain protections for persons applying for, and receiving, federal benefits. Section 7201 of the Omnibus Budget Reconciliation Act of 1990 (Pub. L. 101-508) further amended the Privacy Act regarding protections for such persons.

The Privacy Act, as amended, regulates the use of computer matching by federal agencies when records in a system of records are matched with other federal, state, or local government records. It requires federal agencies involved in computer matching programs to:

(1) Negotiate written agreements with other agencies participating in the matching programs;

(2) Obtain approval of the matching agreement by the Data Integrity Boards of the participating federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all our computer matching programs comply with the requirements of the Privacy Act, as amended.

Dated: May 29, 2009.
Mary Glenn-Croft,
Deputy Commissioner for Budget, Finance and Management.

Notice of Computer Matching Program, SSA With LEA

A. Participating Agencies

SSA and LEA.

B. Purpose of the Matching Program

The purpose of this agreement is to establish terms, conditions, and safeguards under which we will conduct a computer matching program with law enforcement agencies and source jurisdictions (LEA or Source Jurisdiction) in accordance with the Privacy Act of 1974, as amended by the Computer Matching and Privacy Protection Act of 1988 (5 U.S.C. 552a), and the regulations and guidance promulgated thereunder, to identify individuals who are: (1) Fugitive felons, parole violators, or probation violators, as defined by the Social Security Act, from the Source Jurisdiction; and (2) Supplemental Security Income (SSI) recipients, Retirement, Survivors and Disability Insurance (RSDI) beneficiaries, Special Veterans Benefit (SVB) beneficiaries, or representative payees for SSI recipients, RSDI beneficiaries, or SVB beneficiaries.

C. Authority for Conducting the Matching Program

The legal authority for the matching program conducted under this agreement is Sections 1611(e)(4)(A), 202(x)(l)(A)(iv) and (v) and 804(a)(2) and (3) of the Social Security Act (Act) (42 U.S.C. 1382(e)(4)(A), 402(x)(l)(A)(iv) and (v), and 1004(a)(2) and (3)), which prohibit the payment of SSI, RSDI and/or SVB benefits to an SSI recipient, RSDI beneficiary, or SVB beneficiary for any month during which such individuals flee to avoid prosecution, or custody or confinement after conviction, under the applicable laws of the jurisdiction from which the person flees, for a crime or attempt to commit a crime considered to be a felony under the laws of said jurisdiction. Payment of SSI, RSDI, and/or SVB benefits to recipients/beneficiaries is also prohibited in jurisdictions that do not define such crimes as felonies, but as crimes punishable by death or imprisonment for a term exceeding 1 year, (regardless of the actual sentence imposed) and to individuals who violate a condition of probation or parole imposed under Federal or State law.

Sections 1631(a)(2)(B)(iii)(V), 205(j)(2)(C)(i)(V), and 807(d)(1)(E) of the Act (42 U.S.C. 1383(a)(2)(B)(iii)(V), 405(j)(2)(C)(i)(V), 1007(d)(1)(E)), which prohibit us from using a person as a representative payee when such person is a person described in Sections 1611(e)(4)(A), 202(x)(1)(A)(iv), or 804(a)(2) of the Act.

The legal authority for our disclosure of information to the Source Jurisdiction is: Sections 1106(a), 1611(e)(5), 1631(a)(2)(B)(xiv), 202(x)(3)(C), 205(j)(2)(B)(iii) and 807(b)(3) of the Act; the Privacy Act of 1974, as amended by the Computer Matching and Privacy Protection Act of 1988 (5 U.S.C. 552a(b)(3)); and our disclosure regulations promulgated at 20 CFR 401.150.

D. Categories of Records and Persons Covered by the Matching Program

The Source Jurisdiction will identify those who are fugitive felons, parole violators, or probation violators in their records originating from various databases. All Source Jurisdiction records will be prepared and transmitted with clear identification of the record source. We will match the following systems of records with the incoming Source Jurisdiction records to determine recipients of SSI, RSDI, SVB, or persons serving as representative payees: Our Supplemental Security Income Record/Special Veterans Benefits (SSA/OASSIS 60-0103), the Master Beneficiary Record (SSA/OSR 60-0090), the Master Representative Payee File System (SSA/OISP 60-0222), and the Master Files of Social Security Number (SSN) Holders and SSN Applications (SSA/OSR 60-0058).

E. Inclusive Dates of the Matching Program

The matching program will become effective no sooner than 40 days after notice of the matching program is sent to Congress and OMB, or 30 days after publication of this notice in the Federal Register, whichever date is later. The matching program will continue for 18 months from the effective date and may be extended for an additional 12 months thereafter, if certain conditions are met.

[FR Doc. E9-13203 Filed 6-4-09; 8:45 am]

BILLING CODE 4191-02-P